DEPARTMENT OF COMMERCE

International Trade Administration

The Art Institute of Chicago; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW., Washington, D.C.

Docket Number: 00-025. Applicant: The Art Institute of Chicago, Chicago, IL 60603-6110. Instrument: Low Pressure Conservation Table with Accessories. Manufacturer: Willard Fine Art Conservation Equipment, United Kingdom. Intended Use: See notice at 65 FR 51797, August 25, 2000.

Comments: None received. Decision: Approved. No instrument of equivalent scientific value to the foreign instrument, for such purposes as it is intended to be used, is being manufactured in the United States. Reasons: The foreign instrument provides heating, precise control of relative humidity, dehumidification, vacuum, circulation and a transparent dome for “clean room” conditions for preservation and restoration of paintings and fabrics. The Smithsonian Institution advised on September 19, 2000 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 00-25273 Filed 9-29-00; 8:45 am]

BILLING CODE 3510-DS-P